COMMISSION ON CIVIL RIGHTS

Sunshine Act Meeting

AGENCY: U.S. Commission on Civil Rights, Commission on the Social Status of Black Men and Boys (CSSBMB).

ACTION: Notice of CSSBMB public briefing.

DATES: Thursday, November 3, 2022, 1:00 p.m.-3:30 p.m. EDT.

ADDRESSES: The Briefing will take place virtually via YouTube: https://www.youtube.com/user/USCCR/videos.

FOR FURTHER INFORMATION CONTACT: Mr. Mark Spencer Esq., at (202) 578-0091, pressbmb@usccr.gov.

SUPPLEMENTARY INFORMATION: In accordance with Public Law 116-156, 1134 Stat. 700 (2020), the Commission on the Social Status of Black Men and Boys (CSSBMB) will hold a public briefing focused on preventative strategies to mitigate the social disparities of Black men in America.

This briefing is open to the public via livestream on the Commission on Civil Rights' YouTube Page at https://www.youtube.com/user/USCCR/videos. (Streaming information subject to change.) Public participation is available for the event with view access, along with an audio option for listening. Computer assisted real-time transcription (CART) will be provided. The web link to access CART (in English) on Thursday November 3, 2022, is, https://www.steamtext.net/player?event=USCCR (*subject to change). Please note that CART is text-only translation that occurs in real time during the meeting and is not an exact transcript.

* Date and meeting details are subject to change. For more information on the CSSBMB or the upcoming public briefing, please visit CSSBMB's website at www.usccr.gov/about/CSSBMB.

Briefing Agenda

I. Opening Remarks by CSSBMB Chair, The Honorable Frederica S. Wilson (FL-24)

II. Call to Order

III. Introduction of theme: “Unlocking America's Democratic Potential by Reducing Inequality in the Classroom”—Mr. Mark Spencer Esq., CSSBMB Staff Director

IV. Roundtable Discussion with Expert Educators

V. Break

VI. Business Meeting

Adjourn Briefing

Dated: October 27, 2022.
Angelia Rorison,
USCCR Media and Communications Director.

[FR Doc. 2022-23752 Filed 10-27-22; 4:15 pm]

BILLING CODE 6335-01-P